DEPARTMENT OF VETERANS AFFAIRS

38 CFR Part 36

RIN 2900-AR05

Loan Guaranty: COVID-19 Veterans Assistance Partial Claim Payment Program

AGENCY: Department of Veterans Affairs.

ACTION: Technical amendments.

SUMMARY: The Department of Veterans Affairs (VA) is making technical amendments to the final rule published on Friday, May 28, 2021. The final rule establishes the COVID-19 Veterans Assistance Partial Claim Payment program (COVID-VAPCP), a temporary program to help Veterans return to making normal loan payments on a VA-guaranteed loan after exiting a forbearance for financial hardship due, directly or indirectly, to the COVID-19 national emergency.

DATES: These technical amendments are effective August 23, 2021.

FOR FURTHER INFORMATION CONTACT: Andrew Trevayne, Assistant Director, Loan Property and Management, Loan Guaranty Service (26), Veterans Benefits Administration, Department of Veterans Affairs, 810 Vermont Avenue NW, Washington, DC 20420, (202) 632-8862. (This is not a toll-free telephone number.)

SUPPLEMENTARY INFORMATION: VA is amending its final rule, “RIN 2900-AR05; Loan Guaranty: COVID-VAPCP”, that was published on May 28, 2021, in the Federal Register at 86 FR 28692. In the Paperwork Reduction Act section of the final rule, VA noted it had submitted to the Office of Management and Budget (OMB) for approval new information collections under 38 CFR 36.4803 and 36.4805 through 36.4807. OMB has approved these collections of information and assigned an OMB control number. Therefore, VA is issuing these technical amendments to add the OMB control number to the published regulation.

List of Subjects in 38 CFR Part 36

Condominiums, Housing, Individuals with disabilities, Loan programs—housing and community development, Loan programs—veterans, Manufactured homes, Mortgage insurance, Reporting and recordkeeping requirements, Veterans.

For the reasons set forth in the preamble, the VA amends 38 CFR part 36 to read as follows:

PART 38—PENSIONS, BONUSES, AND VETERAN'S RELIEF

1. The authority citation for part 36 continues to read as follows:

Authority: 38 U.S.C. 501 and 3720.

2. Amend § 36.4803 by revising the sentence in parenthesis at the end of the section to read as follows:

§ 36.4803 General requirements of the COVID-19 Veterans Assistance Partial Claim Payment program.

* * * * *

(The Office of Management and Budget has approved the information collection requirements in this section under control number 2900-0889).

* * * * *

3. Amend § 36.4805 by revising the sentence in parenthesis at the end of the section to read as follows:

§ 36.4805 Terms of the partial claim payment.

* * * * *

(The Office of Management and Budget has approved the information collection requirements in this section under control number 2900-0889).

* * * * *

4. Amend § 36.4806 by revising the sentence in parenthesis at the end of the section to read as follows:

§ 36.4806 Terms of the assistance to the veteran.

* * * * *

(The Office of Management and Budget has approved the information collection requirements in this section under control number 2900-0889).

* * * * *

5. Amend § 36.4807 by revising the sentence in parenthesis at the end of the section to read as follows:

§ 36.4807 Application for partial claim payment.

* * * * *

(The Office of Management and Budget has approved the information collection requirements in this section under control numbers 2900-0021 and 2900-0889).

* * * * *

Dated: August 18, 2021.
Jeffrey M. Martin,
Assistant Director, Office of Regulation Policy & Management, Office of the Secretary, Department of Veterans Affairs.

[FR Doc. 2021-18001 Filed 8-20-21; 8:45 am]

BILLING CODE 8320-01-P